DEPARTMENT OF ENERGY

Federal Energy Regulatory Commission

[Docket No. EL00-45-000]

Wisconsin Public Power, Inc.; Complainant v. Wisconsin Power and Light Co. and Alliant Energy, Inc.; Respondents; Notice of Filing

February 14, 2000.

Take notice that on February 11, 2000, Wisconsin Public Power, Inc., (WPPI) tendered for filing a Complaint Requesting Fast Track Processing against Wisconsin Power and Light Co. (WPL) and Alliant Energy, Inc. (Alliant). WPL is a legal subsidiary of Alliant.

In its Complaint, WPPI alleges that WPL is violating WPPI's rights under WPL's Partial Requirements Service Tariff—as implemented by a 1998 Power Supply Agreement between the Parties—to schedule and use base load energy up to WPPI's nominated and paid for capacity.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before February 22, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before February 22, 2000.

David P. Boergers,
Secretary.

[FR Doc. 00-3908 Filed 2-17-00; 8:45 am]

BILLING CODE 6717-01-M